NATIONAL AERONAUTICS AND SPACE ADMINISTRATION

[Notice 00-118]

NASA Advisory Council, Life and Microgravity Sciences and Applications Advisory Committee, Microgravity Research Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Life and Microgravity Sciences and Applications Advisory Committee, Microgravity Research Advisory Subcommittee.

DATES: Wednesday, October 18, 2000, from 8:00 a.m. to 5:00 p.m.

ADDRESSES: National Aeronautics and Space Administration, Room MIC-6 (Room 6H46), 300 E Street, SW, Washington, DC 20546.

FOR FURTHER INFORMATION CONTACT: Dr. Brad Carpenter, Code UG, National Aeronautics and Space Administration, Washington, DC 20546, 202-358-0813.

SUPPLEMENTARY INFORMATION: The meeting will be open to the public up to the seating capacity of the room. The agenda for the meeting is as follows:

—New Enterprise Management (Tentative)

—Program Status/Division Reorganization

—Microgravity Program Office Report

—DWG Activities Reports

—Space Station Utilization Research Institute

—Plans for New Initiatives

—International Activities

—Status of MRAS Recommendations

—Discussion & Summary

—Executive Session/Writing Assignments

It is imperative that the meeting be held on this date to accommodate the scheduling priorities of the key participants. Visitors will be requested to sign a visitor's register.

Dated: September 22, 2000.
Beth M. McCormick,
Advisory Committee Management Officer, National Aeronautics and Space Administration.

[FR Doc. 00-24761 Filed 9-26-00; 8:45 am]

BILLING CODE 7510-01-U